DEPARTMENT OF HEALTH AND HUMAN SERVICES

National Institutes of Health

National Center for Advancing Translational Sciences; Amended Notice of Meeting

Notice is hereby given of a change in the meeting of the National Center for Advancing Translational Sciences Special Emphasis Panel, May 8, 2014, 08:00 a.m. to May 8, 2014, 12:30 p.m., National Institutes of Health, One Democracy Plaza, 6701 Democracy Boulevard, Bethesda, MD 20892 which was published in the Federal Register on April 8, 2014, 79 FR 19346 pg. 19346-19347.

The meeting location has changed from the National Institutes of Health to the Hilton Washington DC/Rockville, 1750 Rockville Pike, MD 20852. The meeting date and time remain the same. The meeting is closed to the public.

Dated: May 1, 2014.
David Clary,
Program Analyst, Office of Federal Advisory Committee Policy.

[FR Doc. 2014-10467 Filed 5-6-14; 8:45 am]

BILLING CODE 4140-01-P